DEPARTMENT OF LABOR

Employment and Training Administration

[TA-W-50,908]

Halliburton Formation Evaluation Machine Shop Including Workers of Jet Research Corporation, Alvarado, Texas; Amended Certification Regarding Eligibility to Apply for Worker Adjustment Assistance

In accordance with Section 223 of the Trade Act of 1974 (19 U.S.C. 2273) the Department of Labor issued a Certification of Eligibility to Apply for Worker Adjustment Assistance on March 4, 2003, applicable to workers of Halliburton Formation Evaluation Machine Shop, Alvarado, Texas. The notice was published in the Federal Register on March 19, 2003 (68 FR 13332).

At the request of the State agency, the Department reviewed the certification for workers of the subject firm. New information shows that worker separations have occurred involving employees of Jet Research Corporation, Alvarado, Texas, employed at Halliburton Formation Evaluation Machine Shop, Alvarado, Texas.

The Jet Research Corporation employees were engaged in the production and support of logging tools for oil drilling at the Alvarado, Texas location of the subject firm.

The intent of the Department's certification is to include all workers of Jet Research Corporation, Alvarado, Texas working at Halliburton Formation Evaluation Machine Shop, Alvarado, Texas who were adversely affected by increased imports.

Accordingly, the Department is amending the certification to properly reflect this matter.

The amended notice applicable to TA-W-50,908 is hereby issued as follows:

“All workers of Halliburton Formation Evaluation Machine Shop, Alvarado, Texas, including workers of Jet Research Corporation, Alvarado, Texas producing logging tools for oil drilling at Halliburton Formation Evaluation Machine Shop, Alvarado, Texas, who became totally or partially separated from employment on or after February 13, 2002, through March 4, 2005, are eligible to apply for adjustment assistance under Section 223 of the Trade Act of 1974.”

Signed at Washington, DC this 21st day of August, 2003.
Elliott S. Kushner,
Certifying Officer, Division of Trade Adjustment Assistance.

[FR Doc. 03-22998 Filed 9-9-03; 8:45 am]

BILLING CODE 4510-30-P